DEPARTMENT OF TRANSPORTATION

Federal Aviation Administration

Notice of Intent To Rule on Application 00-02-C-00-LYH To Impose and Use the Revenue From a Passenger Facility Charge (PFC) at Lynchburg Regional Airport, Lynchburg, Virginia

AGENCY: Federal Aviation Administration (FAA), DOT.

ACTION: Notice of intent to rule on application.

SUMMARY: The FAA proposes to rule and invites public comment on the application to impose and use the revenue from a PFC at Lynchburg Regional Airport under the provisions of the Aviation Safety and Capacity Expansion Act of 1990 (Title IX of the Omnibus Budget Reconciliation Act of 1990) (Public Law 101-508) and Part 158 of the Federal Aviation Regulations (14 CFR Part 158).

DATES: Comments must be received on or before April 20, 2000.

ADDRESSES: Comments on this application may be mailed or delivered in triplicate to the FAA at the following address: Arthur Winder, Project Manager, Washington Airports District Office, P.O. Box 16780, Washington, DC 20041-6780.

In addition, one copy of any comments submitted to the FAA must be mailed or delivered to Mark F. Courtney, Airport Manager of the City of Lynchburg at the following address: Lynchburg Regional Airport, 4308 Wards Road, Suite 100, Lynchburg, Virginia 24502-3532.

Air carriers and foreign air carriers may submit copies of written comments previously provided to the City of Lynchburg under section 158.23 of part 158.

FOR FURTHER INFORMATION CONTACT: Arthur Winder, Program Manager, Washington Airport District Office, P.O. Box 16780, Washington, DC 20041-6780, (703) 661-1363. The application may be reviewed in person at this same location.

SUPPLEMENTARY INFORMATION: The FAA proposes to rule and invites public comment on the application to impose and use the revenue from a PFC at Lynchburg Regional Airport under the provisions of the Aviation Safety and Capacity Expansion Act of 1990 (Title IX of the Omnibus Budget Reconciliation Act of 1990) (Public Law 101-508) and part 158 of the Federal Aviation Regulations (14 CFR part 158).

On March 14, 2000, the FAA determined that the application to impose and use the revenue from a PFC submitted by City of Lynchburg was substantially complete within the requirements of section 158.25 of part 158. The FAA will approve or disapprove the application, in whole or in part, no later than June 16, 2000.

The following is a brief overview of the application.

PFC Application No.: 00-02-C-00-LYH.

Level of the proposed PFC: $3.00.

Proposed charge effective date: August 1, 2000.

Proposed charge expiration date: June 30, 2002.

Total estimated PFC revenue: $924,756.

Brief description of proposed project(s):

—Overlay General Aviation Apron.

—PFC Program Formulation and Annual Administrative Costs.

—Overlay Runway 3-21.

—Acquire Land for Runway 21 RPZ.

—Relocate State Route 758 to recover full ERSA to Runway 21 (Design Only).

—Construct Airport Service Road.

Class or classes of air carriers which the public agency has requested not be required to collect PFCs: Air taxi operators filing FAA Form 1800-31.

Any person may inspect the application in person at the FAA office listed above under FOR FURTHER INFORMATION CONTACT and at the FAA regional airports office located at: Fitzgerald Federal Building #111, Airports Division, AEA-610, John F. Kennedy International Airport, Jamaica, New York 11430.

In addition, any person may, upon request, inspect the application, notice and other documents germane to the application in person at the Lynchburg Regional Airport.

Issued in Washington, DC, March 14, 2000.
Terry J. Page,
Manager, Washington Airports District Office.

[FR Doc. 00-7001 Filed 3-20-00; 8:45 am]

BILLING CODE 4910-13-M